DEPARTMENT OF THE INTERIOR

National Park Service

Glacier Bay National Park, Alaska; Dungeness Crab Commercial Fishery Crewmember Interim Compensation Program

AGENCY: National Park Service, Interior.

ACTION: Glacier Bay National Park application procedures for the Dungeness crab commercial fishery crewmember interim compensation program.

SUMMARY: Section 123 (c) of the Omnibus Consolidated and Emergency Supplemental Appropriations Act for FY 1999 (”the Act”), as amended by section 501 of the 1999 Emergency Supplemental Appropriations Act, Public Law 106-31 (05/21/99), authorizes compensation for fish processors, fishing vessel crewmembers, communities and others negatively affected by congressionally directed restrictions on commercial fishing in the marine waters of Glacier Bay National Park. The National Park Service (NPS) and the state of Alaska are currently working to develop and implement a compensation program broadly envisioned by Congress in the Act; completion of this compensation program is expected to require one to two years. This is a separate compensation program from that specifically authorized for valid Dungeness crab commercial fishing permit holders by Section 123(b) of the DOI & Related Agencies Approp. Act, 1999, (section 101(e) of division A of P.L. 105-277, as amended). NPS has largely completed that specific compensation program and eight Dungeness crab fishermen/permit holders were determined to be eligible and have been compensated as required by the Act. More recently, NPS, with concurrence of the state of Alaska, responded to a congressional request and established an interim compensation program for Dungeness crab processors similarly qualified and similarly effected by the 1999 closure of designated wilderness to commercial Dungeness crab fishing (See 64 FR 41134 [July 29, 1999.]) NPS, with concurrence of the state of Alaska, now responds to another congressional request and will provide interim compensation for crewmembers who fished with any of the eight Dungeness crab fishermen compensated to date under provisions of section (b) of the Act. Applicants for this interim Dungeness crab commercial fishery crewmember compensation program must meet eligibility and application requirements described in this Federal Register notice to qualify for payment. This interim payment is intended to mitigate 1999 income losses for qualifying Dungeness crab fishery crewmembers until the compensation program under section (c) of the Act—and appropriate eligibility criteria, priorities and levels of compensation for crewmembers in the effected commercial fisheries—can be developed and implemented. The amount of this interim compensation payment will not exceed $10,000 per qualifying individual. This Federal Register notice serves to provide application instructions for Dungeness crab fishery crewmembers who believe they qualify for interim compensation. Applications must be provided to the Compensation Program Manager, Glacier Bay National Park and Preserve, within 60 days of the publication date of this notice.

DATES: Applications for the Dungeness crab commercial fishery crewmember interim compensation program will be accepted on or before May 22, 2000.

ADDRESSES: Applications for the Dungeness crab commercial fishery crewmember interim compensation program should be submitted to the Compensation Program Manager, Glacier Bay National Park and Preserve, 2770 Sherwood Lane, Suite I, Juneau, Alaska 99801.

FOR FURTHER INFORMATION CONTACT: For information regarding the Dungeness crab commercial fishery compensation program, please contact Clark Millett, Compensation Program Manager, Glacier Bay National Park and Preserve, 2770 Sherwood Lane, Suite I, Juneau, Alaska 99801. Phone: (907) 586-7047.

SUPPLEMENTARY INFORMATION: The Act, as amended, required Dungeness crab fishermen to provide certain information sufficient to determine their eligibility for compensation. NPS will require similar corroborating documentation from Dungeness crab fishery crewmembers making application for 1999 interim compensation as described in this notice. Dungeness crab fishery crewmembers must provide the following information to the NPS Compensation Program Manager: (1) Full name, mailing address, and a contact phone number. (2) A sworn and notarized personal affidavit attesting to the applicant's history of participation in the Dungeness crab commercial fishery as a crewmember for one or more of the eight Dungeness crab fishermen already compensated, including any two of three years during the interim qualifying period, 1996-1998. The applicant must also attest that they intended to continue working as a crewmember in the Dungeness crab commercial fishery in 1999. (3) A sworn and notarized affidavit, from each of the qualifying fishermen they worked for during the interim qualifying period, 1996—1998, attesting to the applicant's participation in each of those interim qualifying years as a crewmember in the commercial Dungeness crab fishery within either Beardslee Island or Dundas Bay wilderness areas. (4) Documentation from the Alaska Department of Fish and Game detailing the applicant's history as a state licensed commercial fisheries crewmember. (5) Copy of IRS Form 1099-MISC documenting income as a crewmember for qualifying Dungeness crab commercial fishermen for each year worked during the 1996-1998 interim qualifying period. Where crewmember income from other fisheries is included in the IRS Form 1099-MISC this must be noted and the amount attributable only to the Dungeness crab fishery specified. (5) Any other available corroborating information that can assist in a determination of eligibility for interim compensation. The superintendent will make a written determination on eligibility for compensation based on the documentation provided by the applicant. The superintendent will also make a written determination on the amount of 1999 interim compensation to be paid to an eligible applicant. The amount of interim compensation will be based on the applicant's average annual pre-tax income as a crewmember in the Dungeness crab commercial fishery during the 3-year interim qualifying period, 1996—1998, not to exceed $10,000. NPS intends to complete payment of interim compensation to a crewmember meeting the above eligibility criteria within 45 days of receipt of a complete application. If an application for interim compensation is denied the superintendent will provide the applicant the reasons for the denial in writing. Any applicant adversely affected by the superintendent's determination may appeal to the regional director, Alaska region, within 60 days. Applicants must substantiate the basis of their disagreement with the superintendent's determination. The regional director will provide an opportunity for an informal oral hearing, either in Anchorage or by teleconference. After consideration of written materials and oral hearing, if any, and within a reasonable time, the regional director will affirm, reverse, or modify the superintendent's determination and set forth in writing the basis for the decision. A copy of the decision will be forwarded promptly to the applicant and will constitute final agency action. Denial or receipt of interim compensation as a Dungeness crab fishery crewmember will not affect an applicant's consideration for future compensation as a crewmember as part of a final compensation plan established under the Act, as amended.

Dated: March 6, 2000.
Robert D. Barbee,
Regional Director, Alaska.

[FR Doc. 00-7021 Filed 3-21-00; 8:45 am]

BILLING CODE 4310-70-P